Title 3—

The President

Executive Order 13418 of December 14, 2006

Amendment to Executive Order 13317, Volunteers for Prosperity

By the authority vested in me as President by the Constitution and the laws of the United States of America, and to add combating malaria as one of the objectives of the global prosperity agenda, it is hereby ordered that section 1(a) of Executive Order 13317 of September 25, 2003, is amended by:

(a) striking “, and stemming the spread of HIV/AIDS.” and inserting in lieu thereof “, stemming the spread of HIV/AIDS and controlling malaria.”; and

(b) striking “, and the Middle East Partnership Initiative.” and inserting in lieu thereof “, the Middle East Partnership Initiative, and the President's Malaria Initiative.”.

THE WHITE HOUSE,

December 14, 2006.

[FR Doc. 06-9770

Filed 12-15-06; 8:45 am]

Billing code 3195-01-P